NATIONAL ARCHIVES AND RECORDS ADMINISTRATION

Advisory Committee on the Presidential Library-Foundation Partnerships

AGENCY: National Archives and Records Administration.

ACTION: Notice of meeting.

SUMMARY: In accordance with the Federal Advisory Committee Act, as amended (5 U.S.C. appendix 2), the National Archives and Records Administration (NARA) announces a meeting of the Advisory Committee on Presidential Library-Foundation Partnerships. The meeting will be held to discuss the National Archives and Records Administration's budget and its strategic planning process as it relates to Presidential Libraries. The meeting will be open to the public.

DATES: The meeting will be held on Friday, June 1, 2012 from 9:00 a.m. to 12:00 noon.

ADDRESSES: National Archives building at 700 Pennsylvania Avenue NW., Washington, DC, Room 105.

FOR FURTHER INFORMATION CONTACT: Denise LeBeck at 301-837-3250 or denise.lebeck@nara.gov.

SUPPLEMENTARY INFORMATION: Meeting attendees may enter from the Pennsylvania Avenue entrance. Due to space limitations and access procedures, the name and telephone number of individuals planning to attend must be submitted to the contact email listed. Photo identification will be required. No visitor parking is available at the Archives building; however there are commercial parking lots and metered curb parking nearby.

Dated: May 14, 2012.
Mary Ann Hadyka,
Committee Management Officer.

[FR Doc. 2012-11978 Filed 5-16-12; 8:45 am]

BILLING CODE 7515-01-P